DEPARTMENT OF AGRICULTURE

Agricultural Marketing Service

[Doc. No. AMS-DA-10-005; DA-10-02]

Notice of Request for Approval of a New Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for two new forms: (1) Request for Applicant Number and (2) Export Applicant Number Activation.

DATES: Comments on this notice must be received by July 26, 2010 to be assured of consideration.

ADDRESSES: Comments may be sent to Office of the Deputy Administrator, USDA/AMS/Dairy Programs, Room 2968-S, 1400 Independence Avenue, SW., Washington, DC 20090-6465 or may be submitted at the Federal eRulemaking Portal: http//www.regulations.gov. Comments should reference the docket number and the date and page of issue in the Federal Register. All comments received will be available for public inspection during regular business hours at the above address or at http://www.regulations.gov. The identity of the individuals or entities submitting comments will be made public.

Additional Information: Contact Kenneth Vorgert, USDA/AMS/Dairy Programs, Dairy Grading Branch, 2150 Western Court, Suite 100, Lisle, IL 60532-1973; Tel: 630-437-5037, Fax: 630-437-5037 or via e-mail at: ken.vorgert@ams.usda.gov.

SUPPLEMENTARY INFORMATION: (1) Title: Request for Applicant Number.

OMB Number: 0581-NEW.

Expiration Date of Approval: Three years from approval date.

Type of Request: New information collection.

Abstract: The dairy grading program is a voluntary user fee program authorized under the Agricultural Marketing Act (AMA) of 1946 (7 U.S.C. 1621-1627). The regulations governing inspection and grading services of manufactured or processed dairy products are contained in 7 CFR part 58. In order for a voluntary inspection program to perform satisfactorily, appropriate information must be collected. In general, information requested is used to identify and contact the party responsible for payment of the export certification, inspection, grading or equipment evaluation fee and expense. The information requested on the two new forms is required for AMS Dairy Grading Branch to set up accounts to allow applicants to do business with AMS Dairy Grading Branch. This information is currently collected over the telephone, or through faxes, letters or e-mails. The new forms will allow for uniform collection of the information and more secure management of the information.

Estimate of Burden: Public reporting burden for this collection of information is estimated to average 0.05 hours per response.

Respondents: Businesses or other for-profit.

Estimated Number of Respondents: 250.

Estimated Total Annual Responses: 250.

Estimated Number of Responses per Respondent: 1.

Estimated Total Annual Burden on Respondents: 12.5 hours.

(2) Title: Export Applicant Number Activation.

OMB Number: 0581-NEW.

Expiration date of Approval: Three years from approval date.

Type of Request: New information collection.

Abstract: The dairy grading program is a voluntary user fee program authorized under the Agricultural Marketing Act (AMA) of 1946 (7 U.S.C. 1621-1627). The regulations governing inspection and grading services of manufactured or processed dairy products are contained in 7 CFR part 58. In order for a voluntary inspection program to perform satisfactorily, appropriate information must be collected. The information collected will be used to activate the applicants account number in an automated system to request export certificates.

Estimate of Burden: Public reporting burden for this collection of information is estimated to average 0.05 hours per response.

Respondents: Businesses or other for-profit.

Estimated Number of Respondents: 250.

Estimated Total Annual Responses: 250.

Estimated Number of Responses per Respondent: 1.

Estimated Total Annual Burden on Respondents: 12.5 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: May 19, 2010.
Rayne Pegg,
Administrator, Agricultural Marketing Service.

[FR Doc. 2010-12470 Filed 5-24-10; 8:45 am]

BILLING CODE 3410-02-P